DEPARTMENT OF TRANSPORTATION

National Highway Traffic Safety Administration

[U.S. DOT Docket No. NHTSA-2020-0024]

Agency Information Collection Activities; Notice and Request for Comments; National Survey of Drowsy Driving Knowledge, Attitudes and Behaviors

AGENCY: National Highway Traffic Safety Administration (NHTSA), Department of Transportation (DOT).

ACTION: Notice and request for public comment on a proposed new collection of information.

SUMMARY: The National Highway Traffic Safety Administration (NHTSA) invites public comments about our intention to request approval from the Office of Management and Budget (OMB) for a new information collection. Before a Federal agency can collect certain information from the public, it must receive approval from OMB. Under procedures established by the Paperwork Reduction Act of 1995, before seeking OMB approval, Federal agencies must solicit public comment on proposed collections of information, including extensions and reinstatements of previously approved collections. This document describes an Information Collection Request (ICR) for which NHTSA intends to seek OMB approval.

DATES: Comments must be received on or before September 14, 2020.

ADDRESSES: You may submit comments identified by DOT Docket ID Number NHTSA-2020-0024 using any of the following methods:

Electronic submissions: Go to http://www.regulations.gov. Follow the online instructions for submitting comments.

Mail: Docket Management Facility, M-30, U.S. Department of Transportation, 1200 New Jersey Avenue SE, West Building Ground Floor, Room W12-140, Washington, DC 20590.

Hand Delivery: West Building Ground Floor, Room W12-140, 1200 New Jersey Avenue SE, Washington, DC, between 9 a.m. and 5 p.m., Monday through Friday, except Federal holidays. To be sure someone is there to help you, please call (202) 366-9322 before coming.

Fax: 1-202-493-2251.

Instructions: Each submission must include the agency name and the docket number for this Notice of proposed collection of information. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit https://www.transportation.gov/privacy.

Docket: For access to the docket to read background documents or comments received, go to http://www.regulations.gov or the street address listed above. Follow the online instructions for accessing the dockets via internet.

FOR FURTHER INFORMATION CONTACT: For additional information or access to background documents, contact Jordan A. Blenner, JD, Ph.D., Contracting Officer's Representative, Office of Behavioral Safety Research (NPD-320), National Highway Traffic Safety Administration, 1200 New Jersey Avenue SE, W46-470, Washington, DC 20590. Dr. Blenner's telephone number is 202-366-9982, and her email address is jordan.blenner@dot.gov.

SUPPLEMENTARY INFORMATION: Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulation (at 5 CFR 1320.8(d)), an agency must ask for public comment on the following: (i) Whether the proposed collection of information is necessary for the proper performance of the functions of the agency, including whether the information will have practical utility; (ii) the accuracy of the agency's estimate of the burden of the proposed collection of information, including the validity of the methodology and assumptions used; (iii) how to enhance the quality, utility, and clarity of the information to be collected; and (iv) how to minimize the burden of the collection of information on those who are to respond, including the use of appropriate automated, electronic, mechanical, or other technological collection techniques or other forms of information technology, e.g., permitting electronic submission of responses.

In compliance with these requirements, NHTSA asks public comment on the following proposed collection of information:

Title: National Survey of Drowsy Driving Knowledge, Attitudes and Behaviors.

OMB Control Number: New.

Type of Review Requested: Regular.

Form Number: NHTSA Forms 1547, 1548, 1549, 1550, 1551, and 1552.

Type of Information Collection Request: Approval of a new information collection.

Requested Expiration Date of Approval: 3 years from date of approval.

Summary of the Collection of Information: Title 23, United States Code, Chapter 4, Section 403 gives the Secretary authorization to use funds appropriated to conduct research and development activities, including demonstration projects and the collection and analysis of highway and motor vehicle safety data and related information needed to carry out this section, with respect to all aspects of highway and traffic safety systems and conditions relating to vehicle, highway, driver, passenger, motorcyclist, bicyclist, and pedestrian characteristics; accident causation and investigations; and human behavioral factors and their effect on highway and traffic safety.

We are seeking approval to collect information from a random sample of adults (18 years or older) who have driven a motor vehicle in the past month for a one-time voluntary survey to report their knowledge, attitudes, and behaviors associated with drowsy driving. This collection has two parts. The first part is a pilot test for which NHTSA will contact 1,000 households for an expected number of 163 voluntary responses. The second part is the full survey for which NHTSA will contact 81,490 households to achieve a total target of at least 15,000 complete voluntary responses, consisting of 7,000 completed instruments from a nationally representative sample and 2,000 completed instruments from each of four samples representative of States that recently have had drowsy driving law or program activities (Arkansas, Iowa, Massachusetts, and New Jersey). The total estimated burden hours associated with this collection is 16,323 hours—up to 10,949 hours associated with survey invitations and reminders and up to 5,374 hours associated with completing the survey. NHTSA will summarize the results of the collection using aggregate statistics in a final report to be distributed to NHTSA program and regional offices, State Highway Safety Offices, and other traffic safety stakeholders. This collection will inform the development of countermeasures, particularly in the areas of communications and outreach, for reducing fatalities, injuries and crashes associated with drowsy driving.

Description of the Need for the Information and Proposed Use of the Information: NHTSA's Congressional mandate is to reduce deaths, injuries, and economic losses resulting from motor vehicle crashes on the Nation's highways. As part of this statutory mandate, NHTSA is authorized to conduct research as a foundation for the development of traffic safety programs. See 23 U.S.C. 403; 49 U.S.C. 30101(2); 49 U.S.C. 32501. NHTSA's Fatality Analysis Reporting System (FARS) database reports that 2% of traffic fatalities were drowsy driving related in 2018.¹ However, the involvement of drowsy driving in crashes is likely underreported due to difficulty in defining and reporting drowsy driving incidents.² Using a multiple imputation methodology, the study estimated 21% of fatal crashes involved drowsy driving.³ If this estimate is accurate, it suggests that more than 7,000 people die in drowsy driving related motor vehicle crashes across the United States each year. While there have been several studies of self-reported drowsy driving behavior, there is limited research about knowledge and attitudes that lead to drowsy driving. NHTSA last fielded a similar survey in 2002, and much has changed since then. The information will assist NHTSA in (a) planning drowsy driving prevention program activities; (b) supporting groups involved in improving public safety; and (c) identifying countermeasure strategies that are most acceptable and effective in reducing drowsy driving.

¹ National Center for Statistics and Analysis. (October 2019). 2018 Fatal Motor Vehicle Crashes: Overview, pg. 8. (Traffic Safety Facts, Research Note, Report No. DOT HS 812 826). Washington, DC: National Highway Traffic Safety Administration.

² National Center for Statistics and Analysis. (October 2017). Drowsy Driving 2015, pg. 2 (Crash•Stats, A Brief Statistical Summary. Report No. DOT HS 812 446). Washington, DC: National Highway Traffic Safety Administration (available at https://crashstats.nhtsa.dot.gov/Api/Public/ViewPublication/812446).

³ Tefft, Brian C. (2014) Prevalence of Motor Vehicle Crashes Involving Drowsy Drivers, United States, 2009-2013. Washington, DC: AAA Foundation for Traffic Safety.

Number of Respondents: 82,490 Invitations/16,122 Expected Responses.

Under this proposed collection, the potential respondent universe is U.S. residents aged 18 years or older who have driven a motor vehicle in the past month. The pilot study will invite one voluntary participant from 1,000 households, and the full study (national and four State surveys) will invite one voluntary participant from 81,490 households. The expected number of survey responses is 16,122 (163 for the pilot and 15,959 for the full survey).

Estimated Time per Participant: Pilot—25 minutes/Full—28 minutes.

Households selected for the pilot survey will receive two invitation letters and a reminder postcard that would take an estimated five minutes to read (2 minutes for each letter, and 1 minute for the postcard). Households selected for the full survey will receive three invitation letters and two reminder postcards that would take an estimated eight minutes to read (2 minutes for each letter, and 1 minute for each postcard). The estimated time to complete the survey is 20 minutes.

Total Estimated Burden Hours: 16,323.

The total estimated burden hours associated with this collection is 16,323 hours. The total burden hours for the respondents are derived by estimating the number of minutes each respondent would spend on each form and multiplying by the number of respondents (i.e., Form 1547 invitation letter 1 for the pilot phase: 1,000 Respondents × 2 minutes ÷ 60 = 33.3 hours). This estimate includes 83 hours associated with pilot invitations and reminders (33.3 hours (Form 1547) + 16.7 hours (Form 1548) + 33.3 hours (Form 1549) = 83.3 or 83 hours), 10,866 hours associated with the full survey invitations and reminders (2,716.3 hours (Form 1547) + 1,358.2 hours (Form 1548) + 2,716.3 hours (Form 1549) + 1,358.2 hours (Form 1550) + 2,716.3 hours (Form 1551) = 10,865.3 or 10,866 hours), and up to 5,374 hours associated with completing the survey (54.3 hours (pilot) + 5,319.7 hours (full) = 5,374 hours). The details are presented in Table 1 below.

Table 1—Burden Hours by Form
Form | Description | Respondents | Est. minutes per respondent | Total burden hours per form per phase | Total burden hours per form
Form 1547 | Invitation Letter 1—Pilot Survey | 1,000 | 2 | 33.3 | 2,749.6
| Invitation Letter 1—Full Survey | 81,490 | 2 | 2,716.3
Form 1548 | Reminder Postcard 1—Pilot Survey | 1,000 | 1 | 16.7 | 1,374.9
| Reminder Postcard 1—Full Survey | 81,490 | 1 | 1,358.2
Form 1549 | Invitation Letter 2—Pilot Survey | 1,000 | 2 | 33.3 | 2,749.6
| Invitation Letter 2—Full Survey | 81,490 | 2 | 2,716.3
Form 1550 | Reminder Postcard 2—Full Survey | 81,490 | 1 | 1,358.2 | 1,358.2
Form 1551 | Invitation Letter 3—Full Survey | 81,490 | 2 | 2,716.3 | 2,716.3
Form 1552 | Pilot Survey | 163 | 20 | 54.3 | 5,374.0
| Full Survey | 15,959 | 20 | 5,319.7
Totals |  |  |  |  | 16,322.6 or 16,323

Total Estimated Burden Cost: NHTSA estimates that there are no costs to respondents beyond the time spent completing the survey.

Frequency of Collection: This study is a one-time data collection, and there will be no recurrence.

Public Comments Invited: You are asked to comment on any aspects of this information collection, including (a) whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

Authority: The Paperwork Reduction Act of 1995, 44 U.S.C. Chapter 35, as amended; 49 CFR 1.49; and DOT Order 1351.29.

Issued in Washington, DC.
Nanda Narayanan Srinivasan,
Associate Administrator, Research and Program Development.

[FR Doc. 2020-15184 Filed 7-13-20; 8:45 am]

BILLING CODE 4910-59-P